DEPARTMENT OF HOMELAND SECURITY

U.S. Customs and Border Protection

[OMB Control Number 1651-0140]

Agency Information Collection Activities; Revision; Collection of Advance Information From Certain Individuals on the Land Border

AGENCY: U.S. Customs and Border Protection (CBP), Department of Homeland Security.

ACTION: 30-day notice and request for comments.

SUMMARY: The Department of Homeland Security, U.S. Customs and Border Protection (CBP) will be submitting the following information collection request to the Office of Management and Budget (OMB) for review and approval in accordance with the Paperwork Reduction Act of 1995 (PRA). The information collection is published in the Federal Register to obtain comments from the public and affected agencies.

DATES: Comments are encouraged and must be submitted (no later than February 13, 2025) to be assured of consideration.

ADDRESSES: Written comments and/or suggestions regarding the item(s) contained in this notice should be sent within 30 days of publication of this notice to www.reginfo.gov/public/do/PRAMain. Please submit written comments and/or suggestions in English. Find this particular information collection by selecting “Currently under 30-day Review—Open for Public Comments” or by using the search function.

FOR FURTHER INFORMATION CONTACT: Requests for additional PRA information should be directed to Seth Renkema, Chief, Economic Impact Analysis Branch, U.S. Customs and Border Protection, Office of Trade, Regulations and Rulings, 90 K Street NE, 10th Floor, Washington, DC 20229-1177, telephone number 202-325-0056 or via email CBP_PRA@cbp.dhs.gov. Please note that the contact information provided here is solely for questions regarding this notice. Individuals seeking information about other CBP programs should contact the CBP National Customer Service Center at 877-227-5511, (TTY) 1-800-877-8339, or CBP website at https://www.cbp.gov/.

SUPPLEMENTARY INFORMATION: CBP invites the general public and other Federal agencies to comment on the proposed and/or continuing information collections pursuant to the Paperwork Reduction Act of 1995 (44 U.S.C. 3501 et seq.). This proposed information collection was previously published as an extension without change in the Federal Register (89 FR 83030) on October 15, 2024, allowing for a 60-day comment period. This notice includes a new change not mentioned in the previous notice and allows for an additional 30 days for public comments. This process is conducted in accordance with 5 CFR 1320.8. Written comments and suggestions from the public and affected agencies should address one or more of the following four points: (1) whether the proposed collection of information is necessary for the proper performance of the functions of the agency, including whether the information will have practical utility; (2) the accuracy of the agency's estimate of the burden of the proposed collection of information, including the validity of the methodology and assumptions used; (3) suggestions to enhance the quality, utility, and clarity of the information to be collected; and (4) suggestions to minimize the burden of the collection of information on those who are to respond, including through the use of appropriate automated, electronic, mechanical, or other technological collection techniques or other forms of information technology, e.g., permitting electronic submission of responses. The comments that are submitted will be summarized and included in the request for approval. All comments will become a matter of public record.

Overview of This Information Collection

Title: Collection of Advance Information from Certain Individuals on the Land Border.

OMB Number: 1651-0140.

Form Number: N/A.

Current Actions: This submission will revise the collection to include documented individuals and extend the expiration date of this information collection.

Type of Review: Revision.

Affected Public: Individuals.

Abstract: The Department of Homeland Security (DHS) and its component U.S. Customs and Border Protection (CBP) have established a process to streamline the processing of travelers under title 8 of the United States Code at ports of entry (POEs). This process involves the submission of certain biographic and biometric information to CBP, via the CBP One ™ application, in advance of arrival at a POE.

Under this collection, CBP collects certain biographic and biometric information from travelers via the CBP One ™ application, prior to their arrival at a POE, to streamline their processing at the POE. The requested information is that which CBP would otherwise collect from these individuals during primary and/or secondary processing. This information is provided directly by travelers. Providing this information reduces the amount of data entered by CBP Officers (CBPOs) and the corresponding time required to process travelers at the POE.

The biographic and biometric information being collected in advance, that would otherwise be collected during primary and/or secondary processing at the POEs, includes descriptive information such as: Name, Date of Birth, Country of Birth, City of Birth, Country of Residence, Contact Information, Addresses, Nationality, Employment history (optional), Travel history, Emergency Contact (optional), U.S. and foreign addresses, Familial Information, Marital Status, Identity Document (not a Western Hemisphere Travel Initiative (WHTI) compliant document) (optional), Name and contact information for someone who assisted the user (Optional), Gender, Preferred Language, Height, Weight, Eye color and Photograph.

This collection may require the submission of a live facial photograph for all noncitizens who choose to provide advance information to CBP via CBP One ™. The submission of a live photograph in advance provides CBPOs with a mechanism to match a noncitizen who arrives at the POE with the photograph submitted in advance, therefore identifying those individuals, and verifying their identity as well as conducting advance vetting. The live photograph is particularly important for identity verification if an NGO/IO is not assisting an individual in scheduling their presentation at a POE. In addition, the requirement for a live photo that contains latitude and longitude data points allows CBP to ensure the individual is physically located within the designated geofence areas. Creating designated areas allows an individual to secure an appointment without congregating in potentially dangerous conditions at the U.S. Southwest Border; and only traveling to or through Mexico for the intended purpose of presenting themselves to CBP for inspection. Documented travelers will be required to submit a photo but will not be required to utilize the liveness feature.

In addition, CBP allows individuals to request to present themselves for processing at a specific POE on a specific day or days, although such a request does not guarantee that an individual will be processed on a given date or at a given time. Individuals also have the opportunity to modify their requests within the CBP One™ application to an alternate day or time. The functionality to modify their request to an alternative date and time does not require the collection of new Personal Identification Information (PII) data elements.

Noncitizens who use CBP One are processed in a more streamlined manner at the POE, since their advance information is prepopulated into CBP systems, which reduces manual data entry during processing. Travelers who did not submit information through CBP One may need to wait to be processed in a separate line from those who used CBP One (reserved for those who submitted their advance information and scheduled a presentation date).

CBP invites the public to comment on the previously approved Emergency Revision for Noncitizens only:

1. Change in CBP One Geofence Designated Areas:

In response to a request from the Government of Mexico, CBP is adjusting the specific boundaries from where individuals can request and confirm CBP One appointments.

Under the current process, individuals seeking appointments must be located within Central or Northern Mexico. The Government of Mexico has requested an adjustment to the geofence to assist in its efforts to influence where individuals congregate while they seek a CBP One appointment. CBP will be expanding the geofence for Mexican nationals to all of Mexico and CBP will be adding the Mexican states of Tabasco and Chiapas to the current boundaries for all other nationalities. By adjusting the boundaries, CBP will assist the Government of Mexico in its efforts to enforce its immigration laws and regulations and align resources to those areas where migrants are located. The Government of Mexico has the right to enforce their immigration laws and regulations and the current geofence boundaries hinder their migration enforcement approach. Further geofence adjustments may be made in the future in response to Government of Mexico requests.

2. Validation Tool:

Due to the volume of individuals traveling through Mexico to present at a POE at a designated date and time, the Government of Mexico is requesting assistance in validating appointments of individuals or groups of individuals it encounters transiting through Mexico. In response, CBP is deploying a validation mechanism to assist Mexican government officials when they encounter an individual or group who claim to have a CBP One appointment. The tool will require the Mexican government official to enter an individual's CBP One confirmation number and date of birth. Once submitted, the tool will return confirmation of any valid CBP One appointment with the appointment date, time, and location, as well as the total number of people in the group.

This Revision Submission:

In the previous 60-day FRN CBP announced no changes to the collection, however in this notice CBP has added a new change that enables documented travelers to utilize the CBP One application, previously a feature only available for undocumented travelers.

Type of Information Collection: Advance Information on Undocumented Travelers—Registration.

Estimated Number of Respondents: 500,000.

Estimated Number of Annual Responses per Respondent: 1.

Estimated Number of Total Annual Responses: 500,000.

Estimated Time per Response: 12 minutes.

Estimated Total Annual Burden Hours: 100,000.

Type of Information Collection: Advance Information on Documented Travelers—Registration.

Estimated Number of Respondents: 20,000.

Estimated Number of Annual Responses per Respondent: 1.

Estimated Number of Total Annual Responses: 20,000.

Estimated Time per Response: 5 minutes.

Estimated Total Annual Burden Hours: 1,666.

Type of Information Collection: Daily Appointment Request for Undocumented Travelers.

Estimated Number of Respondents: 500,000.

Estimated Number of Annual Responses per Respondent: 60.

Estimated Number of Total Annual Responses: 30,000,000.

Estimated Time per Response: 1 minute.

Estimated Total Annual Burden Hours: 500,000.

Type of Information Collection: Daily Appointment Request for Documented Travelers.

Estimated Number of Respondents: 20,000.

Estimated Number of Annual Responses per Respondent: 1.

Estimated Number of Total Annual Responses: 20,000.

Estimated Time per Response: 1 minute.

Estimated Total Annual Burden Hours: 333.

Type of Information Collection: Confirmation of Appointment.

Estimated Number of Respondents: 529,250.

Estimated Number of Annual Responses per Respondent: 1.

Estimated Number of Total Annual Responses: 529,250.

Estimated Time per Response: 3 minutes.

Estimated Total Annual Burden Hours: 26,463.

Dated: January 7, 2025.
Seth D Renkema,
Branch Chief, Economic Impact Analysis Branch, U.S. Customs and Border Protection.

[FR Doc. 2025-00524 Filed 1-13-25; 8:45 am]

BILLING CODE 9111-14-P